ENVIRONMENTAL PROTECTION AGENCY

40 CFR Part 70

[EPA-R05-OAR-2018-0285; FRL-10000-39-Region 5]

Air Plan Approval; Wisconsin; Title V Operation Permit Program; Withdrawal of Direct Final Rule

AGENCY: Environmental Protection Agency (EPA).

ACTION: Withdrawal of direct final rule.

SUMMARY: Due to the receipt of an adverse comment, the Environmental Protection Agency (EPA) is withdrawing the July 31, 2019 direct final rule approving updates and revisions to the Wisconsin Title V Operating Permit Program. The revisions were submitted to update the title V program for the first time since the final approval of the program in 2001 and to change the permit fee schedule for subject facilities. The revisions consist of amendments to Chapter Natural Resources (NR) 407 Wisconsin Administrative Code, operation permits, Chapter NR 410 Wisconsin Administrative Code, permit fees, and Wisconsin statute 285.69, fee structure.

DATES: The direct final rule published at 84 FR 37104 on July 31, 2019, is withdrawn effective September 25, 2019.

FOR FURTHER INFORMATION CONTACT: Susan Kraj, Environmental Engineer, Air Permits Section, Air Programs Branch (AR-18J), Environmental Protection Agency, Region 5, 77 West Jackson Boulevard, Chicago, Illinois 60604, (312) 353-2654, kraj.susan@epa.gov.

SUPPLEMENTARY INFORMATION: In the direct final rule, EPA stated that if adverse comments were submitted by August 30, 2019, the rule would be withdrawn and not take effect. EPA received an adverse comment prior to the close of the comment period and, therefore, is withdrawing the direct final rule. EPA will address the comment in a subsequent final action based upon the proposed action also published on July 31, 2019 (84 FR 37194). EPA will not institute a second comment period on this action.

List of Subjects in 40 CFR Part 70

Environmental protection, Administrative practice and procedure, Air pollution control, Intergovernmental relations, Operation permits, Reporting and recordkeeping requirements.

Authority: 42 U.S.C. 7401 et seq.

Dated: September 11, 2019.
Cheryl L Newton,
Acting Regional Administrator, Region 5.

PART 70—STATE OPERATING PERMIT PROGRAMS

Accordingly, the amendment to appendix A to part 70 published in the Federal Register on July 31, 2019, (84 FR 37104) on page 37107 is withdrawn effective September 25, 2019.

[FR Doc. 2019-20863 Filed 9-24-19; 8:45 am]

BILLING CODE 6560-50-P